ENVIRONMENTAL PROTECTION AGENCY

[EPA-HQ-OAR-2019-0489; FRL-10001-50-OAR]

Proposed Information Collection Request; Comment Request; Control of Air Pollution From Motor Vehicles: Tier 3 Motor Vehicle Emission Standards (Renewal)

AGENCY: Environmental Protection Agency (EPA).

ACTION: Notice.

SUMMARY: The Environmental Protection Agency is planning to submit an information collection request (ICR), “Control of Air Pollution from Motor Vehicles: Tier 3 Motor Vehicle Emission Standards (Renewal)” (EPA ICR No. 0783.65, OMB Control No. 2060-0104) to the Office of Management and Budget (OMB) for review and approval in accordance with the Paperwork Reduction Act. Before doing so, EPA is soliciting public comments on specific aspects of the proposed information collection as described below. This is a proposed extension of the ICR, which is currently approved through March 31, 2020. An Agency may not conduct or sponsor and a person is not required to respond to a collection of information unless it displays a currently valid OMB control number.

DATES: Comments must be submitted on or before December 30, 2019.

ADDRESSES: Submit your comments, referencing Docket ID No. EPA-HQ-OAR-2019-0489, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: David Wright, Compliance Division, Office of Transportation and Air Quality, U.S. Environmental Protection Agency, 2000 Traverwood, Ann Arbor, Michigan 48105; telephone number: 734-214-4467; fax number 734-214-4869; email address: wright.davida@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under sections 202(a) and 202(k) of the Clean Air Act (42 U.S.C. 7521), EPA finalized regulations to set more stringent vehicle emission standards beginning in model year 2017, as part of a systems approach to addressing the impacts of motor vehicles and fuels on air quality and public health. The Tier 3 vehicle emission standards, which are the subject of this ICR, reduce both tailpipe and evaporative emissions from passenger cars, light-duty trucks, medium-duty passenger vehicles, and some heavy-duty vehicles. The Tier 3 vehicle standards are harmonized with California's Low Emission Vehicle Program—LEVIII standards, creating a federal vehicle emissions program allowing automakers to sell the same vehicles in all fifty states. This ICR covers the information that affected respondents must provide to the Agency. Any information submitted to the Agency for which a claim of confidentiality is made is safeguarded according to policies set forth in CFR title 40, chapter 1, part 2, subpart B—Confidentiality of Business Information (see 40 CFR part 2).

Form numbers:

Form 5800-258—Template for Light-duty Conversion of Intermediate Age System

Form 5900-257—Template for Light-duty Cover of Outside Useful Life System

Form number N/A—Template for Tier 3 Light-duty FTP and SFTP AB&T Reporting

Form number N/A—Template for Tier 3 Heavy-duty NMOG+NOX, Evaporative and Cold NMHC AB&T Reporting

Respondents/affected entities: Manufacturers of light-duty passenger vehicles, light-duty trucks, medium-duty passenger vehicles and some heavy-duty vehicles.

Respondent's obligation to respond: Required in order to receive Certificate of Conformity per section as outlined in section 206(a) of the Clean Air Act.

Estimated number of respondents: 55 (total).

Frequency of response: As needed.

Total estimated burden: 73,567 hours (per year). Burden is defined at 5 CFR 1320.3(b).

Total estimated cost: $7,662,565 (per year), which includes $6,455,695 annualized capital and $1,206,870 annual operation & maintenance costs.

Changes in estimates: There is no change in the total estimated respondent burden hours compared with the ICR currently approved by OMB. There is a $28,369 reduction in estimated burden cost compared with the ICR currently approved by OMB.

Dated: October 17, 2019.
Byron J. Bunker,
Director, Compliance Division, Office of Transportation and Air Quality, Office of Air and Radiation.

[FR Doc. 2019-23710 Filed 10-29-19; 8:45 am]

BILLING CODE 6560-50-P